FARM CREDIT ADMINISTRATION

Meeting Notice-Regular Board Meeting—December 10, 2020; Correction

AGENCY: Farm Credit Administration.

ACTION: Notice, regular meeting; correction.

SUMMARY: On December 2, 2020, the Farm Credit Administration (FCA) published a Notice, Regular Meeting for December 10, 2020.

In that publication, Tab 4 on “Extension of No Action Until Investment Eligibility Rule's Effective Date” was published. On December 4, 2020, a notational vote was approved by the Board to remove Tab 4 on “Extension of No Action Until Investment Eligibility Rule's Effective Date” from the agenda. This document corrects that error.

DATES: This correction is effective December 10, 2020.

FOR FURTHER INFORMATION CONTACT: Dale Aultman, Secretary to the Board, Farm Credit Administration, 703) 883-4381, Farm Credit Administration, 1501 Farm Credit Drive, McLean, VA 22102-5090.

Dated: December 7, 2020.
Dale Aultman,
Secretary, Farm Credit Administration Board.

[FR Doc. 2020-27135 Filed 12-9-20; 8:45 am]

BILLING CODE 6705-01-P